Executive Order 13923 of May 15, 2020

Establishment of the Forced Labor Enforcement Task Force Under Section 741 of the United States-Mexico-Canada Agreement Implementation Act

By the authority vested in me as President by the Constitution and the laws of the United States of America, including section 301 of title 3, United States Code, and section 741 of the United States-Mexico-Canada Agreement Implementation Act (Act) (Public Law 116-113), it is hereby ordered as follows:

Section 1. Establishment of Forced Labor Enforcement Task Force. The Forced Labor Enforcement Task Force (Task Force) is hereby established to monitor United States enforcement of the prohibition under section 307 of the Tariff Act of 1930 (19 U.S.C. 1307).

Sec. 2. Membership. The Task Force shall be chaired by the Secretary of Homeland Security and shall be composed of representatives from the Department of State, the Department of the Treasury, the Department of Justice, the Department of Labor, and the Office of the United States Trade Representative. The Chair may invite representatives from other executive departments or agencies, as appropriate, to participate as members or observers. Members of the Task Force may designate an officer of the United States within their respective executive department or agency to serve as their representative on the Task Force. Each executive department or agency represented on the Task Force shall ensure that the necessary staff are available to assist their respective representatives in performing the responsibilities of the Task Force.

Sec. 3. Task Force Decision-making. The Task Force shall endeavor to make any decision on an action under sections 742 through 744 of the Act by consensus, which shall be deemed to exist where no Task Force member objects to the proposed action. If the Task Force is unable to reach a consensus on a proposed action, and the Chair determines that allotting further time will cause a decision to be unduly delayed, the Task Force shall decide the matter by majority vote of its members. The Chair, in addition to voting, may also break any tie vote.

Sec. 4. Funding. Each executive department and agency shall bear its own expenses incurred in connection with the Task Force's functions described in sections 741 through 744 of the Act.

Sec. 5. General Provisions. (a) Nothing in this order shall be construed to impair or otherwise affect:

(i) the authority granted by law to an executive department or agency, or the head thereof;

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 15, 2020.

[FR Doc. 2020-10993

Filed 5-19-20; 8:45 am]

Billing code 3295-F0-P